DEPARTMENT OF LABOR

Office of the Secretary

Submission for OMB Review; Comment Request

September 17, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158 or e-mail Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

* * * evaluate whether the proposed collection of information is necessary for the proper performance of the functions of the agency, including whether the information will have practical utility;

* * * evaluate the accuracy of the agency's estimate of the burden of the proposed collection of information, including the validity of the methodology and assumptions used;

* * * enhance the quality, utility, and clarity of the information to be collected; and minimize the burden of the collection information on those who are to respond, including through the use of appropriate automated, electronic, mechanical, or other technological collection techniques or other forms of information technology, e.g., permitting electronic submission of responses.

Type of Review: Extension of a currently approved collection.

Agency: Employment Standards Administration (ESA).

Title: Request for Examination and/or Treatment.

OMB Number: 1215-0066.

Affected Public: Individuals or households.

Frequency: On occasion.

Number of Respondents: 16,500.

Number of Annual Responses: 109,725.

Estimated Time Per Response: 1.08 minutes.

Total Burden Hours: 118,503.

Total Annualized Capital/Startup Costs: $0.

Total Annual Costs (operating/maintaining systems or purchasing services): $43,890.

Description: The Office of Workers' Compensation Programs administers the Longshore and Harbor Workers' Compensation Act. The Act provides benefits to workers injured in maritime employment on the navigable waters of the United States or in an adjoining area customarily used by an employee in loading, unloading, repairing or building a vessel. Under Section 7 of the Longshore Act, the employer/insurance carrier is responsible for furnishing medical care for the injured employee for such period of time as the injury or recovery period may require. Form LS-1 is used by the Longshore Division to verify that proper medical treatment had been authorized and to determine the severity of a claimant's injuries and thus his/her entitlement to compensation benefits which they are responsible by law to provide if a claimant is medically unable to work as a result of a war-related injury. If the information were not collected, verification of authorized medical care and entitlement to compensation benefits would not be possible.

Ira L. Mills,
Departmental Clearance Officer.

[FR Doc. 02-24502 Filed 9-26-02; 8:45 am]

BILLING CODE 4510-CF-M